DEPARTMENT OF TRANSPORTATION

Federal Aviation Administration

Third Meeting RTCA NextGen Advisory Committee (NAC)

AGENCY: Federal Aviation Administration (FAA), DOT.

ACTION: RTCA NextGen Advisory Committee (NAC).

SUMMARY: The FAA is issuing this notice to advise the public of a meeting of RTCA NextGen Advisory Committee (NAC).

DATES: The meeting will be held May 19, 2011 from 9:30 a.m. to 2 p.m.

ADDRESSES: The meeting will be held at JetBlue Airways Hangar 81, Cargo Area C, South Cargo Road and 148th Street, JFK International Airport, Jamaica, NY 11430.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for the NextGen Advisory Committee meeting. The agenda will include:

• Opening Plenary (Welcome and Introductions), Chairman Dave Barger, President and CEO, JetBlue Airways.

• Official Statement of Designated Federal Official, Michael Huerta, FAA Deputy Administrator.

• Review and Approval of February 1, 2010 Meeting Summary/Terms of Reference.

• Chairman's Report—Chairman Barger.

• FAA Report—Michael Huerta.

• Subcommittee Report: NAC Subcommittee and Work Groups.

• Subcommittee Co-Chair, Steve Brown, Senior Vice President Operations and Administration, National Business Aviation Association.

• Break.

• Review Recommendations to be Considered for Submission to FAA.

• Integrated Capabilities Work Group Task Group.

• Prioritize the NextGen mid-term operations that are dependent on equipage.

• NAC Equipage AdHoc.

• Recommend the aircraft types or user groups that should be considered for incentives.

• Lunch Break.

• Review Recommendations to be Considered for Submission to FAA, Metroplex.

• Criteria for Metroplex Prioritization, Preliminary Prioritization.

• Integrated Capabilities Scoping and Requirements.

• Review Recommendations to be Considered for Submission to FAA, NextGen Performance Metrics.

• Preliminary Reports on Key NextGen Performance Indicators.

• NextGen Measurement Methodology.

• Review Recommendations to be Considered for Submission to FAA, Airspace and Procedures Tasking.

• Special Activity Airspace Concept of Operations.

• Other Business/Anticipated Issues for NAC Consideration and Action at September 29, 2011 meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 14, 2011.
Robert L. Bostiga,
RTCA Advisory Committee.

[FR Doc. 2011-9488 Filed 4-19-11; 8:45 am]

BILLING CODE 4910-13-P